DEPARTMENT OF TRANSPORTATION

Office of the Secretary

Notice of Applications for Certificates of Public Convenience and Necessity and Foreign Air Carrier Permits Filed Under Subpart B (Formerly Subpart Q) During the Week Ending November 19, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: DOT-OST-2005-21805.

Date Filed: November 18, 2011.

Due Date for Answers, Conforming Applications, or Motion To Modify Scope: December 9, 2011.

Description:

Application of Tyrolean Jet Service Nfg. GmbH & Co KG t/a Tyrolean Jet Services (“Tyrolean Jet Services”) requesting an exemption and an amended foreign air carrier permit authorizing Tyrolean Jet Services to conduct (a) Charter services authorized under its existing foreign air carrier permit using large aircraft, and (b) charter transportation authorized by any additional route rights made available to European Union carriers in the future.

Renee V. Wright,
Program Manager, Docket Operations, Federal Register Liaison.

[FR Doc. 2011-31498 Filed 12-8-11; 8:45 am]

BILLING CODE 4910-9X-P